DEPARTMENT OF ENERGY

Federal Energy Regulatory Commission

[Docket Nos. CP04-36-000 and CP04-41-000]

Weaver's Cove Energy, L.L.C., Mill River Pipeline, L.L.C.; Notice of Availability of the Final Environmental Impact Statement for the Proposed Weaver's Cove LNG Project

May 20, 2005.

The staff of the Federal Energy Regulatory Commission (FERC or Commission) has prepared a final Environmental Impact Statement (EIS) on the liquefied natural gas (LNG) import terminal and natural gas pipeline facilities proposed by Weaver's Cove Energy, L.L.C. and Mill River Pipeline, L.L.C. (collectively referred to as Weaver's Cove Energy) in the above-referenced dockets.

The staff prepared the final EIS to satisfy the requirements of the National Environmental Policy Act (NEPA). The final EIS evaluates alternatives to the proposal, including system alternatives, alternative sites for the LNG import terminal, and pipeline alternatives. The final EIS concludes that if the Weaver's Cove LNG Project is constructed and operated in accordance with Weaver's Cove Energy's proposed mitigation and the FERC staff's recommended mitigation measures, the proposed action would meet federal safety standards, can be operated safely, and would have limited adverse environmental impact. In addition, the final EIS concludes that implementation of the Coast Guard's security plan that controls the LNG vessels operating through Narragansett Bay to/from the proposed terminal would further ensure the public safety.

The final EIS was also prepared to help satisfy the requirements of the Massachusetts Environmental Policy Act (MEPA). The Massachusetts Executive Office of Environmental Affairs (EOEA) issued a Certificate to Weaver's Cove Energy on August 28, 2003, that established a Special Review Procedure to guide the MEPA review of the Weaver's Cove LNG Project. This Special Review Procedure provides for a coordinated NEPA/MEPA review and allows the draft and final EISs to serve as the draft and final Environmental Impact Reports (EIR) required under MEPA, provided the EISs address MEPA's EIR requirements, as specified in the MEPA scope for the project that was issued concurrently with the August 28, 2003 Special Review Procedure. Pursuant to the established Special Review Procedure, the EOEA reviewed the draft EIS and issued a Certificate on October 1, 2004 following the close of the comment period. In the Certificate the Secretary of the EOEA determined that the draft EIS did not sufficiently address several issues critical to understanding the project design and how the project meets state regulatory requirements and thus required Weaver's Cove Energy to prepare a supplemental draft EIR. The Secretary of the EOEA stated that its decision was directed at the deficiencies of the joint federal/state document only as it relates to the state requirements under MEPA. On December 17, 2004, the Secretary of the EOEA determined that the supplemental draft EIR, submitted by Weaver's Cove Energy on November 1, 2004, did not adequately and properly comply with the MEPA and its implementing regulations. Because the decision of the Secretary of the EOEA was based on the inadequacy of the supplemental draft EIR to meet state regulatory requirements, the FERC continued to complete its analysis of the project for federal review purposes and to prepare the final EIS.

The final EIS addresses the potential environmental effects of the construction and operation of the following LNG terminal and natural gas pipeline facilities:

• A ship unloading facility with a single berth capable of receiving LNG ships with cargo capacities of up to 145,000 cubic meters (m³);

• A 200,000 m³ (equivalent to 4.4 billion standard cubic feet of gas) full containment LNG storage tank;

• Vaporization equipment, sized for a normal sendout of 400 million cubic feet per day (MMcfd) and a maximum sendout of 800 MMcfd;

• Four LNG truck loading stations;

• Ancillary utilities, buildings, and service facilities;

• Two 24-inch-diameter natural gas sendout pipelines, totaling approximately 6.1 miles in length; and

• Two meter and regulation stations.

The purpose of the Weaver's Cove LNG Project is to provide: a new LNG import terminal and competitive source of imported LNG in the New England market area; a new facility for the storage of LNG; access to natural gas reserves in production areas throughout the world that are inaccessible by conventional pipelines; a new supply of natural gas to New England; strengthened gas supply to southeastern Massachusetts and Rhode Island; and a competitive source of LNG delivered by truck to LNG storage facilities throughout the region.

The final EIS has been placed in the public files of the FERC and is available for distribution and public inspection at: Federal Energy Regulatory Commission, Public Reference Room, 888 First Street, NE., Room 2A, Washington, DC 20426, (202) 502-8371.

A limited number of copies are available from the Public Reference Room identified above. In addition, copies of the final EIS have been mailed to Federal, state, and local agencies; public interest groups; individuals and affected landowners who requested a copy of the final EIS; libraries; newspapers; and parties to this proceeding.

In accordance with the Council on Environmental Quality's (CEQ) regulations implementing the NEPA, no agency decision on a proposed action may be made until 30 days after the U.S. Environmental Protection Agency publishes a notice of availability of a final EIS. However, the CEQ regulations provide an exception to this rule when an agency decision is subject to a formal internal appeal process which allows other agencies or the public to make their views known. In such cases, the agency decision may be made at the same time the notice of the final EIS is published, allowing both periods to run concurrently. The Commission's decision for this proposed action is subject to a 30-day rehearing period.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, with eLibrary, the eLibrary helpline can be reached at 1-866-208-3676, TTY (202) 502-8659 or at FERCOnlineSupport@ferc.gov. The eLibrary link on the FERC Internet Web site also provides access to the texts of formal documents issued by the Commission, such as orders, notices, and rulemakings.

Linda Mitry,
Deputy Secretary.

[FR Doc. E5-2658 Filed 5-25-05; 8:45 am]

BILLING CODE 6717-01-P